DEPARTMENT OF DEFENSE

Office of the Secretary

[Transmittal No. 22-0F]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0F.

Dated: July 29, 2024.
Patricia L. Toppings,
OSD Federal Register Liaison Officer, Department of Defense.

BILLING CODE 6001-FR-P

BILLING CODE 6001-FR-C

Transmittal No. 22-0F

REPORT OF ENHANCEMENT OR UPGRADE OF SENSITIVITY OF TECHNOLOGY OR CAPABILITY (SEC. 36(B)(5)(C), AECA)

(i) Purchaser: Government of Qatar

(ii) Sec. 36(b)(1), AECA Transmittal No.: 16-58

Date: November 17, 2016

Military Department: Air Force

Funding Source: National Funds

(iii) Description: On November 17, 2016, Congress was notified by Congressional certification transmittal number 16-58 of the possible sale under Section 36(b)(l) of the Arms Export Control Act of weapons, equipment, and support for: seventy-two (72) F-15QA aircraft, one hundred forty-four (144) F-110-GE-129 aircraft engines, eighty (80) Advanced Display Core Processor II (ADCP II), eighty (80) Digital Electronic Warfare Suites (DEWS), eighty (80) M61A “Vulcan” gun systems, eighty (80) Link-16 systems, one hundred sixty (160) Joint Helmet Mounted Cueing Systems (JHMCS), three hundred twelve (312) LAU-128 missile launchers, eighty (80) AN/APG-82(V)l Active Electronically Scanned Array (AESA) radars, one hundred sixty (160) Embedded OPS/Inertial Navigation Systems (INS) (EGI), eighty (80) AN/AAQ-13 LANTIRN navigation pods w/containers, eighty (80) AN/AAQ-33 SNIPER Advanced Targeting Pods w/containers, eighty (80) AN/AAS-42 Infrared Search and Track Systems (IRST), two hundred (200) AIM-9X Sidewinder missiles, seventy (70) AIM-9X Captive Air Training Missiles (CATM), eight (8) AIM-9X special training missiles, twenty (20) CATM AIM-9X missile guidance units, twenty (20) AIM-9X tactical guidance kits, two hundred fifty (250) AIM-120C7 Advanced Medium Range Air-to-Air Missiles (AMRAAM), five (5) AIM-120C7 spare guidance kits, one hundred (100) AGM-88 High Speed Anti-Radiation Missiles (HARM), forty (40) AGM-88 HARM CATMs, two hundred (200) AGM-154 Joint Standoff Weapons (JSOW), eighty (80) AGM-84L-1 Standoff Strike anti-ship missiles (Harpoon), ten (10) Harpoon exercise missiles, two hundred (200) AGM-65G2 (Maverick) missiles, five hundred (500) GBU-38 Joint Direct Attack Munitions (JDAM) guidance kits, five hundred (500) GBU-31(Vl) JDAM guidance kits, two hundred fifty (250) GBU-54 Laser JDAM guidance kits, two hundred fifty (250) GBU-56 Laser JDAM guidance kits, five hundred (500) BLU-117B bombs, five hundred (500) BLU-117B bombs, six (6) MK-82 Inert bombs, and one thousand (1,000) FMU-152 Joint programmable fuses. The estimated total cost was $21.1 billion. Major Defense Equipment (MDE) constituted $11.5 billion of this total.

On January 5, 2018, CN 0C-17 reported the replacement of the previously notified AGM-65H/K variant with AGM-65, the inclusion of AAR-57A Common Missile Warning Systems, sub-components to JDAM and Laser JDAM, and supplemented the description of General-Purpose Bomb Bodies to include BLU-111, MK-82, BLU-117B, and MK-84 series weapons. The replacement or upgrading of the status of this equipment to MDE and Significant Military Equipment (SME) did not result in a change to the estimated cost of MDE of $11.5 billion. The total estimated case value remained $21.1 billion.

On November 28, 2018, CN 0L-18 reported the inclusion of additional training assets as MDE to support the previously notified AGM-65 (Maverick) missiles: five (5) TGM-65 Maverick-Missile Aircrew Trainer; one (1) TGM-65 Maverick-Missile Load Trainer; and one (1) TGM-65 Maverick-Missile Maintenance Trainer. The estimated value of the additional MDE items was $3.5 million but its addition did not result in a net increase in the MDE value notified. The total estimated case value remained $21.1 billion.

On December 8, 2021, CN 20-0I notified the inclusion of up to five hundred (500) GBU-39/B Small Diameter Bombs Increment I (SDB I), one (1) GBU-39 A/B Focused Lethality Munition (FLM) practice bomb, and one (1) GBU-39 B/B Laser SDB practice bomb. The estimated value of the additional MDE items was $35 million but its addition did not result in a net increase in the MDE value notified. The total estimated case value remained $21.1 billion.

This transmittal notifies the addition of the following MDE items: two (2) GBU-39(T-1)/B Inert Small Diameter Bomb (SDB) Guided Test Vehicles (GTV). The following non-MDE items will also be included: Tactical Synthetic Aperture Radar (TacSAR) Advanced Electronically Scanned Reconnaissance Pods; TacSAR Transportable Ground Stations; associated spare and repair parts, consumables, and accessories; and U.S. Government and contractor engineering, technical and logistics support services, as well as other related elements of logistical and program support.

The total value of added MDE items is $1.8 million but will not result in a net increase in the MDE value notified. The total estimated MDE value will remain $11.5 billion. The total value of added non-MDE items is $130 million but will not result in an increase in the total estimated non-MDE value. The total estimated case value will remain $21.1 billion.

(iv) Significance: The proposed sale will significantly improve Qatar's defense capabilities to meet current and future threats and deter regional aggression. The inclusion of these items represents an increase in capability over what was originally notified.

(v) Justification: This proposed sale will support the foreign policy and national security objectives of the United States by helping to improve the security of a friendly country that continues to be an important force for political stability and economic progress in the Middle East.

(vi) Sensitivity of Technology:

The GBU-39(T-1)/B SDB GTV is an inert, full-scale configuration of the SDB used to demonstrate safe-separation from the SDB carriage system and parent aircraft, free flight, maneuverability and target accuracy.

The TacSAR system is a non-program of record reconnaissance pod designed for carriage on fighter aircraft that features Active Electronic Scanned Array (AESA) radar technology. TacSAR capabilities include providing long range, day/night, all-weather imagery and Ground Moving Target Indication. The pod can also transmit imagery via a datalink to Ground Stations for near-real time analysis and exploitation. The pod integrates a synthetic aperture radar into the same outer-shell as the DB-110 and MS-110 pods.

The highest level of classification of defense articles, components, and services included in this potential sale is UNCLASSIFIED.

(vii) Date Report Delivered to Congress: September 27, 2022

[FR Doc. 2024-17043 Filed 8-1-24; 8:45 am]

BILLING CODE 6001-FR-P